DEPARTMENT OF THE INTERIOR

Bureau of Land Management

[PO4820000251]

Notice of Segregation of Public Lands for the Neptune Solar Project, Millard County, Utah

AGENCY: Bureau of Land Management, Department of the Interior.

ACTION: Notice of segregation.

SUMMARY: The Bureau of Land Management (BLM) is segregating 1,920 acres of public lands as part of the right-of-way (ROW) application for the Neptune Solar Project, from appropriation under the public land laws, including location under the Mining Law of 1872, but not the Mineral Leasing Act or Material Sales Act, for a period of 2 years from the date of publication of this notice, subject to valid existing rights. This segregation is to allow for the orderly administration of the public lands to facilitate consideration of development of renewable energy resources.

DATES: The segregation of the lands identified in this notice is effective on December 16, 2024.

FOR FURTHER INFORMATION CONTACT: Lennie McConnell, District Renewable Energy Project Manager, BLM West Desert and Color Country Districts, 176 E DL Sargent Drive, Cedar City, UT 84721, (435) 865-3052 or email at lmcconnell@blm.gov. Individuals in the United States who are deaf, deafblind, hard of hearing, or have a speech disability may dial 711 (TTY, TDD, or TeleBraille) to access telecommunications relay services for contacting Mr. McConnell. Individuals outside the United States should use the relay services offered within their country to make international calls to the point-of-contact in the United States. You will receive a reply during normal business hours.

SUPPLEMENTARY INFORMATION: Regulations found at 43 CFR 2091.3-1(e) and 2804.25(f) allow the BLM to temporarily segregate public lands described within a ROW application for solar energy development from the operation of the public land laws, including the Mining Law, by publication of a notice in the Federal Register. The BLM uses the temporary segregation authority to preserve the ability to approve, approve with modifications, or deny a proposed ROW, and to facilitate the orderly administration of the public lands. This temporary segregation is subject to valid existing rights.

Licenses, permits, cooperative agreements, or discretionary land use authorizations of a temporary nature that will not significantly impact the application area may be allowed with the approval of the authorized officer of the BLM during the segregation period.

The public lands segregated by this notice are described as follows:

Neptune Solar Project—UTUT105853689

Salt Lake Meridian, Utah

T. 19 S., R. 8 W.,

Sec. 19, S½NE¼ and SE¼;

Sec. 20, SW¼NE¼, S½NW¼, SW¼, and SE¼SE¼;

Sec. 21, S½SE¼;

Sec. 28;

Sec. 29, E½NE¼, SW¼NE¼, SE¼NW¼, SW¼, N½SE¼, and SE¼SE¼;

Sec. 33, W½NE¼, N½NW¼, and SE¼NW¼.

The areas described aggregate 1,920 acres, according to the official plat of the survey of the said lands, on file with the BLM.

As provided in the regulations under 43 CFR 2091.3-1e(3), the segregation of the lands described in this notice will not exceed 2 years from the date of publication unless extended for an additional 2 years through publication of a new notice in the Federal Register.

For a period until December 16, 2026, subject to valid existing rights, the public lands described in this notice will be segregated from appropriation under the public land laws, including location under the Mining Law of 1872, but not from leasing under the mineral and geothermal leasing laws, or disposal under the Mineral Materials Act, while the ROW application is being processed. The segregation period will terminate and the lands will automatically open to appropriation under the public land laws, including the Mining Law, at the earliest of the following dates: upon issuance of a decision by the authorized officer granting, granting with modifications, or denying the application for a ROW; without further administrative action at the end of the segregation stated in the Federal Register notice initiating the segregation; or upon publication of a Federal Register notice terminating the segregation and opening the lands.

(Authority: 43 CFR 2091.3-1(e) and 43 CFR 2804.25(f))

Matthew A. Preston,
State Director, Acting.

[FR Doc. 2024-29544 Filed 12-13-24; 8:45 am]

BILLING CODE 4331-25-P